ENVIRONMENTAL PROTECTION AGENCY

40 CFR Part 81

[OAR-2003-0083; FRL-7651-8]

RIN 2060-

Air Quality Designations and Classifications for the 8-Hour Ozone National Ambient Air Quality Standards; Early Action Compact Areas With Deferred Effective Dates

Correction

In rule document 04-9152 beginning on page 23858 in the issue of Friday, April 30, 2004, make the following correction:

§81.336 [Amended]

On page 23926, in §81.336, the table “Ohio—Ozone (8-Hour Standard),” is corrected to read in part set forth below.

Ohio—Ozone (8-Hour Standard)
Designated area | Designation ᵃ: Date ¹ | Designation ᵃ: Type | Category/classification: Date ¹ | Category/classification: Type
Canton-Massillion, OH: Stark County |  | Nonattainment |  | Subpart 1.
Cincinnati-Hamilton, OH-KY-IN:
Butler County |  | Nonattainment |  | Subpart 1.
Clermont County |  | Nonattainment |  | Subpart 1.
Clinton County |  | Nonattainment |  | Subpart 1.
Hamilton County |  | Nonattainment |  | Subpart 1.
Warren County |  | Nonattainment |  | Subpart 1.
Cleveland-Akron-Lorain, OH |  | Nonattainment |  | Subpart 2/Moderate.
Ashtabula County
Cuyahoga County
Geauga County
Lake County
Lorain County
Medina County
Portage County
Summit County
Columbus, OH:
Delaware County |  | Nonattainment |  | Subpart 1.
Fairfield County |  | Nonattainment |  | Subpart 1.
Franklin County |  | Nonattainment |  | Subpart 1.
Knox County |  | Nonattainment |  | Subpart 1.
Licking County |  | Nonattainment |  | Subpart 1.
Madison County |  | Nonattainment |  | Subpart 1.
Dayton-Springfield, OH:
Clark County |  | Nonattainment |  | Subpart 1.
Greene County |  | Nonattainment |  | Subpart 1.
Miami County |  | Nonattainment |  | Subpart 1.
Montgomery County |  | Nonattainment |  | Subpart 1.
* * * * * * *
ᵃ Includes Indian Country located in each county or area, except as otherwise specified.
¹ This date is June 15, 2004, unless otherwise noted.

[FR Doc. C4-9152 Filed 11-2-04; 8:45 am]

BILLING CODE 1505-01-D

SECURITIES AND EXCHANGE COMMISSION

[Release No. 34-50501; File No. SR-NASD-2004-138]

Self-Regulatory Organizations; Notice of Filing and Order Granting Accelerated Approval of a Proposed Rule Change by National Association of Securities Dealers, Inc. Relating to the Listing and Trading of Performance Leveraged Upside Securities Based on the Value of the Dow Jones Euro Stoxx 50 Index

Correction

In notice document E4-2709 beginning on page 61533 in the issue of Tuesday, October 19, 2004, make the following correction:

On page 61536, in the second column, under section IV. Solicitation of Comments, in the last paragraph, in the last line, the date “November 8, 2004” should read, “November 9, 2004”.

[FR Doc. Z4-2709 Filed 11-2-04; 8:45 am]

BILLING CODE 1505-01-D